DEPARTMENT OF THE INTERIOR

Fish and Wildlife Service

[FWS-HQ-FAC-2019-N017; FXFR13360900000-FF09F14000-189]

Aquatic Nuisance Species Task Force Meeting

AGENCY: Fish and Wildlife Service, Interior.

ACTION: Notice of meeting.

SUMMARY: The Aquatic Nuisance Species (ANS) Task Force will hold a public meeting in accordance with the Federal Advisory Committee Act. The ANS Task Force's purpose is to develop and implement a program for U.S. waters to prevent introduction and dispersal of aquatic invasive species; to monitor, control, and study such species; and to disseminate related information.

DATES: The ANS Task Force will meet Wednesday and Thursday, May 8-9, 2019, from 8 a.m. to 5 p.m. each day. The meeting is open to the public; however, for security purposes, registration is required. For more information, contact the ANS Task Force Executive Secretary (see FOR FURTHER INFORMATION CONTACT).

ADDRESSES: Meeting location: The ANS Task Force meeting will take place at the Tahoe Resort Hotel, 4130 Lake Tahoe Boulevard, South Lake Tahoe, CA 96150 (telephone 530-544-5400).

Comment submission: You may submit written comments in advance of the meeting by emailing them to the ANS Task Force Executive Secretary (see FOR FURTHER INFORMATION CONTACT), by close of business on May 1, 2019.

FOR FURTHER INFORMATION CONTACT: Susan Pasko, ANS Task Force Executive Secretary, by telephone at 703-358-2466, or by email at Susan_Pasko@fws.gov.

Accessibility: The U.S. Fish and Wildlife Service is committed to providing access to this meeting for all participants. Please direct all requests for sign language interpreting services, closed captioning, or other accommodation needs to the ANS Task Force Executive Secretary, by using the contact information above or via TTY at 800-877-8339, by close of business on April 29, 2019.

SUPPLEMENTARY INFORMATION: The ANS Task Force was established by the Nonindigenous Aquatic Nuisance Prevention and Control Act of 1990, as amended (NANPCA; 16 U.S.C. 4701 et seq.). The ANS Task Force is composed of 13 Federal and 15 ex-officio members, and is co-chaired by the U.S. Fish and Wildlife Service and the National Oceanic and Atmospheric Administration. The ANS Task Force's purpose is to develop and implement a program for U.S. waters to prevent introduction and dispersal of aquatic invasive species; to monitor, control, and study such species; and to disseminate related information.

Meeting Agenda

• Presentations on innovative measures for ANS management and control, highlighting the severity of invasive mussel population in the West.

• Presentations on ballast water and biofouling treatment and management programs.

• Update on new species occurrences in the United States.

• Response to recommendations from the ANS Task Force regional panels.

• Discussion on priority outputs to advance the goals identified in the ANS Task Force Strategic Plan for 2019-2024.

• Public Comment

The final agenda and other related meeting information will be posted on the ANS Task Force website at http://anstaskforce.gov. Summary minutes of the meeting will be maintained by the Executive Secretary and will be available for public inspection within 90 days after the meeting at http://anstaskforce.gov.

Lake Tahoe Site Visit

On Tuesday, May 7, 2019, the day before the meeting begins, there will be a site visit from 1 p.m. to 5 p.m. to Lake Tahoe. The site visit will include presentations on, and viewing of, aquatic invasive species control projects within the area. To register for the site visit, contact the ANS Task Force Executive Secretary (see FOR FURTHER INFORMATION CONTACT) by close of business on April 29, 2019.

Public Input

There will be an opportunity for public comment during the meeting. Depending on the number of people interested in addressing the Task Force, a time limit on comments may be imposed. If you provide a written comment, before including your address, phone number, email address, or other personal identifying information in your comment, you should be aware that your entire comment—including your personal identifying information—may be made publicly available at any time. While you can ask us in your comment to withhold your personal identifying information from public review, we cannot guarantee that we will be able to do so.

Authority

5 U.S.C. Appendix 2.

Dated: April 16, 2019.
David Miko,
Division Chief, Fish and Aquatic Conservation.

[FR Doc. 2019-07890 Filed 4-18-19; 8:45 am]

BILLING CODE 4333-15-P